DEPARTMENT OF TRANSPORTATION

Federal Railroad Administration

[Docket Number FRA-2018-0048]

Petition for Waiver of Compliance

Under part 211 of Title 49 Code of Federal Regulations (CFR), this document provides the public notice that on May 25, 2018, the Santa Clara Valley Transportation Authority (SCVTA) and the American Federation of State, County and Municipal Employees (AFSCME) petitioned the Federal Railroad Administration (FRA) for a waiver of compliance from certain provisions of the Federal hours of service laws contained at 49 U.S.C. 21105, which in part prohibit a dispatching service employee from being on duty for more than a total of 9 hours during a 24-hour period. FRA assigned the petition Docket Number FRA-2018-0048.

Specifically, Petitioners seek approval of a pilot project under 49 U.S.C. 21108, which allows railroads and labor organizations to jointly petition for a waiver of compliance from the hours of service laws to enable the establishment of a pilot project. The proposed pilot project would permit a 4-day, 10 hours-per-day work week for the affected employees, “the controllers” on the SCVTA system. Petitioners allege the pilot project will enhance safety of operations due to the increased flexibility in terms of staff assignments and covering unanticipated occurrences on the system, be beneficial to morale, and will provide more flexibility in arranging for ongoing training for employees without having to ask them to sacrifice days off from work.

Petitioners explain that SCVTA is a public agency, with light rail transit operations on three lines, including the Vasona Corridor, which shares a corridor and grade crossings, but not tracks, with Union Pacific Railroad Company (UP). AFSCME is the authorized collective bargaining representative for the controllers, the employees on the SCVTA system that dispatch SCVTA light rail trains. UP train crews contact the SCVTA Operating Control Center prior to operating in the shared corridor, but SCVTA controllers do not otherwise communicate directly with UP train crews, nor do they share a radio frequency with UP.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by July 23, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety, Chief Safety Officer.

[FR Doc. 2018-12224 Filed 6-6-18; 8:45 am]

BILLING CODE 4910-06-P